DEPARTMENT OF COMMERCE

International Trade Administration

[A-475-840]

Forged Steel Fluid End Blocks From Italy: Final Affirmative Determination of Sales at Less Than Fair Value

AGENCY: Enforcement and Compliance, International Trade Administration, Department of Commerce.

SUMMARY: The Department of Commerce (Commerce) determines that imports of forged steel fluid end blocks (fluid end blocks) from Italy are being, or are likely to be, sold in the United States at less than fair value (LTFV) for the period of investigation October 1, 2018 through September 30, 2019.

DATES: Applicable December 11, 2020.

FOR FURTHER INFORMATION CONTACT: Dmitry Vladimirov or Hermes Pinilla, AD/CVD Operations, Office I, Enforcement and Compliance, International Trade Administration, U.S. Department of Commerce, 1401 Constitution Avenue NW, Washington, DC 20230; telephone: (202) 482-0665 or (202) 482-3477, respectively.

SUPPLEMENTARY INFORMATION:

Background

On July 23, 2020, Commerce published in the Federal Register its preliminary affirmative determination in the LTFV investigation of fluid end blocks from Italy, in which we also postponed the final determination until December 7, 2020.¹ We invited interested parties to comment on the Preliminary Determination. A summary of the events that occurred since Commerce published the Preliminary Determination, as well as a full discussion of the issues raised by parties for this final determination, may be found in the Issues and Decision Memorandum.²

¹ See Forged Steel Fluid End Blocks from Italy: Preliminary Affirmative Determination of Sales at Less Than Fair Value, Postponement of Final Determination, and Extension of Provisional Measures, 85 FR 44500 (July 23, 2020) (Preliminary Determination), and accompanying Preliminary Decision Memorandum.

² See Memorandum, “Issues and Decision Memorandum for the Final Affirmative Determination in the Less-Than-Fair-Value Investigation of Forged Steel Fluid End Blocks from Italy,” dated concurrently with, and hereby adopted by, this notice (Issues and Decision Memorandum).

Scope of the Investigation

The products covered by this investigation are fluid end blocks from Italy. For a full description of the scope of this investigation, see the “Scope of the Investigation” in Appendix I.

Scope Comments

During the course of this investigation, Commerce received scope comments from interested parties. Commerce issued a Preliminary Scope Decision Memorandum to address these comments.³ We received comments from interested parties on the Preliminary Scope Decision Memorandum, which we address in the Final Scope Decision Memorandum, dated concurrently with, and hereby adopted by, this final determination.⁴ Commerce is not modifying the scope language as it appeared in the Preliminary Determination. See Appendix I for the final scope of the investigation.

³ See Memorandum, ” Forged Steel Fluid End Blocks from the Federal Republic of Germany, India, Italy, and the People's Republic of China: Scope Comments Decision Memorandum for the Preliminary Determinations,” dated May 18, 2020 (Preliminary Scope Decision Memorandum).

⁴ See Memorandum, “Forged Steel Fluid End Blocks from the Federal Republic of Germany, India, Italy, and the People's Republic of China: Scope Comments Decision Memorandum for the Final Determinations,” dated December 7, 2020 (Final Scope Decision Memorandum).

Analysis of Comments Received

All issues raised in the case and rebuttal briefs that were submitted by parties in this investigation are addressed in the Issues and Decision Memorandum. A list of the issues addressed in the Issues and Decision Memorandum is attached to this notice at Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Verification

Commerce was unable to conduct on-site verification of the information relied upon in making its final determination in this investigation as provided for in section 782(i) of the Tariff Act of 1930, as amended (the Act). Accordingly, we took additional steps in lieu of on-site verification and requested additional documentation and information.⁵

⁵ See Commerce's Letters, dated September 2, 2020; see also Metalcam's Letters, both titled “Antidumping Duty Investigation of Forged Steel Fluid End Blocks from Italy: Metalcam Post-Prelim Questionnaire Response,” and dated September 11, 2020 (submitting, separately, responses to the sales and cost portions of the questionnaire in lieu of verification); and Lucchini's Letter, “Antidumping Duty Investigation of Forged Steel Fluid End Blocks from Italy: Lucchini Mame Forge S.p.A Post-Preliminary Questionnaire,” dated September 11, 2020.

Changes Since the Preliminary Determination

Based on our analysis of the comments received, we made certain changes to the margin calculations for Lucchini. For a discussion of these changes, see the “Changes from the Preliminary Determination” section of the Issues and Decision Memorandum.

Use of Adverse Facts Available

Companies that did not respond to our quantity and value questionnaires, IMER International S.p.A., Galperti Group, Mimest S.p.A., and P. Technologies S.r.l., failed to cooperate in this investigation. Therefore, in the Preliminary Determination, pursuant to sections 776(a) and (b) of the Act, Commerce assigned these companies a rate based on adverse facts available (AFA). There is no new information on the record that would cause us to revisit our determination to apply AFA to IMER International S.p.A., Galperti Group, Mimest S.p.A., and P. Technologies S.r.l. Accordingly, we continue to find that the application of AFA pursuant to sections 776(a) and (b) of the Act is warranted with respect to these companies. Commerce has assigned to these companies' exports of the subject merchandise the rate of 58.48 percent, which is Lucchini's highest comparison-specific margin.⁶ Because this rate is not secondary information, but rather is based on information obtained in the course of the investigation, Commerce need not corroborate this rate pursuant to section 776(c) of the Act.

⁶ See Memorandum, “Forged Steel Fluid End Blocks from Italy—Final Determination Analysis Memorandum for Lucchini Mamè Forge S.p.A.,” dated December 7, 2020 (Lucchini Final Analysis Memorandum) at 90 of the attached margin-calculation program output.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act. Commerce has determined that the estimated weighted-average dumping margin for Metalcam S.p.A. is zero. Therefore, the only rate that is not zero, de minimis, or based entirely on facts otherwise available, is the rate calculated for Lucchini Mame Forge S.p.A. Consequently, the rate calculated for Lucchini Mame Forge S.p.A., is assigned as the rate for all other producers and exporters.

Final Determination

The final estimated weighted-average dumping margins are as follows:

⁷ See Memorandum, “Forged Steel Fluid End Blocks from Italy—Preliminary Determination Analysis Memorandum for Metalcam S.p.A.,” dated July 16, 2020.

⁸ See Lucchini Final Analysis Memorandum.

Exporter or producer | Estimated weighted- average dumping margin (percent)
Metalcam S.p.A | ⁷ 0.00
Lucchini Mame Forge S.p.A | ⁸ 7.33
IMER International S.p.A | ** 58.48
Galperti Group | ** 58.48
Mimest S.p.A | ** 58.48
P. Technologies S.r.l | ** 58.48
All Others | 7.33

Disclosure

We intend to disclose the calculations performed for Lucchini in this final determination within five days of the date of publication of this notice to parties in this proceeding in accordance with 19 CFR 351.224(b).⁹

⁹ We are not disclosing any final margin calculations for Metalcam because we made no changes to the preliminary margin calculations for Metalcam.

Continuation of Suspension of Liquidation

In accordance with section 735(c)(1)(B) of the Act, Commerce will instruct U.S. Customs and Border Protection (CBP) to continue to suspend liquidation of all appropriate entries of subject merchandise, as described in Appendix I of this notice, entered, or withdrawn from warehouse, for consumption on or after July 23, 2020, the date of publication of Preliminary Determination in the Federal Register except for those entries of subject merchandise produced and exported by Metalcam S.p.A. Because the estimated weighted-average dumping margin for Metalcam S.p.A. is zero, we will not be directing CBP to suspend liquidation of entries of the subject merchandise produced and exported by this company.

Pursuant to section 735(c)(1)(B)(ii) of the Act and 19 CFR 351.210(d), where appropriate, Commerce will instruct CBP to require a cash deposit equal to the estimated weighted-average dumping margin or the estimated all-others rate, as follows: (1) The cash deposit rate for the respondents listed above will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin. These suspension-of-liquidation instructions will remain in effect until further notice.

Because the estimated weighted-average dumping margin for Metalcam S.p.A. is zero, entries of shipments of subject merchandise from this company will not be subject to suspension of liquidation or cash deposit requirements. In such situations, Commerce also applies the exclusion to the provisional measures to the producer/exporter combination that was examined in the investigation. Accordingly, Commerce will be directing CBP not to suspend liquidation of entries of subject merchandise produced and exported by Metalcam S.p.A. However, entries of shipments of subject merchandise from this company in any other producer/exporter combination (i.e., where Metalcam S.p.A, is either the producer or the exporter, but not both), or by third parties that sourced subject merchandise from the excluded producer/exporter combination, will be subject to suspension of liquidation at the all-others rate.

Because the estimated weighted-average dumping margin is zero for the producer/exporter combination identified above, entries of shipments of subject merchandise from this producer/exporter combination will be excluded from the potential antidumping duty order. Such an exclusion will not be applicable to merchandise exported to the United States by this respondent in any other producer/exporter combinations or by third parties that sourced subject merchandise from the excluded producer/exporter combination.

While Commerce normally adjusts cash deposits for estimated antidumping duties by the amount of export subsidies countervailed in a companion countervailing duty (CVD) proceeding when CVD provisional measures are in effect, we have not adjusted the cash deposit rates listed above because Commerce found no countervailable export subsidies in the final determination of the companion CVD investigation.¹⁰

¹⁰ See the Final Affirmative Countervailing Duty Determination of Forged Steel Fluid End Blocks from Italy and accompanying Issues and Decision Memorandum dated concurrently with this final determination.

International Trade Commission Notification

In accordance with section 735(d) of the Act, we will notify the International Trade Commission (ITC) of the final affirmative determination of sales at LTFV. Because Commerce's final determination is affirmative, in accordance with section 735(b)(2) of the Act, the ITC will make its final determination as to whether the domestic industry in the United States is materially injured, or threatened with material injury, by reason of imports or sales (or the likelihood of sales) for importation of fluid end blocks from Italy no later than 45 days after this final determination. If the ITC determines that such injury does not exist, this proceeding will be terminated, and all cash deposits posted will be refunded and suspension of liquidation will be lifted. If the ITC determines that such injury does exist, Commerce will issue an AD order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and this notice are issued and published pursuant to sections 735(d) and 777(i)(1) of the Act and 19 CFR 351.210(c).

Dated: December 7, 2020.
Jeffrey I. Kessler,
Assistant Secretary for Enforcement and Compliance.

Appendix I

Scope of the Investigation

The products covered by this investigation are forged steel fluid end blocks (fluid end blocks), whether in finished or unfinished form, and which are typically used in the manufacture or service of hydraulic pumps.

The term “forged” is an industry term used to describe the grain texture of steel resulting from the application of localized compressive force. Illustrative forging standards include, but are not limited to, American Society for Testing and Materials (ASTM) specifications A668 and A788.

For purposes of this investigation, the term “steel” denotes metal containing the following chemical elements, by weight: (i) Iron greater than or equal to 60 percent; (ii) nickel less than or equal to 8.5 percent; (iii) copper less than or equal to 6 percent; (iv) chromium greater than or equal to 0.4 percent, but less than or equal to 20 percent; and (v) molybdenum greater than or equal to 0.15 percent, but less than or equal to 3 percent. Illustrative steel standards include, but are not limited to, American Iron and Steel Institute (AISI) or Society of Automotive Engineers (SAE) grades 4130, 4135, 4140, 4320, 4330, 4340, 8630, 15-5, 17-4, F6NM, F22, F60, and XM25, as well as modified varieties of these grades.

The products covered by this investigation are: (1) Cut-to-length fluid end blocks with an actual height (measured from its highest point) of 8 inches (203.2 mm) to 40 inches (1,016.0 mm), an actual width (measured from its widest point) of 8 inches (203.2 mm) to 40 inches (1,016.0 mm), and an actual length (measured from its longest point) of 11 inches (279.4 mm) to 75 inches (1,905.0 mm); and (2) strings of fluid end blocks with an actual height (measured from its highest point) of 8 inches (203.2 mm) to 40 inches (1,016.0 mm), an actual width (measured from its widest point) of 8 inches (203.2 mm) to 40 inches (1,016.0 mm), and an actual length (measured from its longest point) up to 360 inches (9,144.0 mm).

The products included in the scope of this investigation have a tensile strength of at least 70 KSI (measured in accordance with ASTM A370) and a hardness of at least 140 HBW (measured in accordance with ASTM E10).

A fluid end block may be imported in finished condition (i.e., ready for incorporation into a pump fluid end assembly without further finishing operations) or unfinished condition (i.e., forged but still requiring one or more finishing operations before it is ready for incorporation into a pump fluid end assembly). Such finishing operations may include: (1) Heat treating; (2) milling one or more flat surfaces; (3) contour machining to custom shapes or dimensions; (4) drilling or boring holes; (5) threading holes; and/or (6) painting, varnishing, or coating.

Excluded from the scope of this investigation are fluid end block assemblies which (1) include (a) plungers and related housings, adapters, gaskets, seals, and packing nuts, (b) valves and related seats, springs, seals, and cover nuts, and (c) a discharge flange and related seals, and (2) are otherwise ready to be mated with the “power end” of a hydraulic pump without the need for installation of any plunger, valve, or discharge flange components, or any other further manufacturing operations.

The products included in the scope of this investigation may enter under Harmonized Tariff Schedule of the United States (HTSUS) subheadings 7218.91.0030, 7218.99.0030, 7224.90.0015, 7224.90.0045, 7326.19.0010, 7326.90.8688, or 8413.91.9055. While these HTSUS subheadings are provided for convenience and customs purposes, the written description of the scope of the investigation is dispositive.

Appendix II

List of Topics Discussed in the Issues and Decision Memorandum

I. Summary

II. Background

III. Changes from the Preliminary Determination

IV. Discussion of the Issues

Comment 1: Whether Application of Adverse Facts Available (AFA) is Warranted for Metalcam

Comment 2: Constructed Value Profit and Constructed Value Selling Expenses

Comment 3: Date of Sale for Metalcam

Comment 4: Lucchini's Direct Material Costs

Comment 5: Major Input/Transactions Disregarded Adjustment

Comment 6: Constructed Export Price Profit Calculation for Lucchini

Comment 7: Commission Rate for Lucchini

Comment 8: Inventory Carrying Costs for Lucchini

V. Recommendation

[FR Doc. 2020-27334 Filed 12-10-20; 8:45 am]

BILLING CODE 3510-DS-P